DEPARTMENT OF THE INTERIOR

Bureau of Land Management

[WY-040-00-1060-HI]

Notice of Intent To Gather Excess Wild Horses During Calendar Year 2000

AGENCY: Bureau of Land Management, Interior.

SUMMARY: The Bureau of Land Management (BLM), Rock Springs Field Office, prepared an environmental assessment for wild horse gathering inside and outside of wild horse herd management areas in 1999. The proposed action to gather excess wild horses to appropriate management levels was approved in a decision record on July 14, 1999. Gathering of excess wild horses to appropriate management levels was not completed in 1999. BLM is scheduled to continue gathering operations in the year 2000. The environmental assessment and decision record are available for review at the Rock Springs Field Office, 280 Highway 191 North, Rock Springs, Wyoming. It is also available via the world wide web at: http://www.wy.blm.gov/currentnews/wildhorses/WILDHORSEADOPTION.HTML The planned gathering period will extend from July 15, 2000 until inclement weather prevents gathering operations. Up to 800 wild horses may be removed from four wild horse herd management areas including Great Divide Basin, White Mountain, Little Colorado, and Salt Wells Creek. Excess wild horses outside of the herd management areas in the North Baxter/Jack Morrow hills areas may also be removed.

FOR FURTHER INFORMATION CONTACT: John (Stan) McKee, Field Manager, Rock Springs Field Office, 280 Highway 191 North, Rock Springs, Wyoming 82901 (307-352-0201).

Dated: May 3, 2000.
John S. McKee,
Field Manager.

[FR Doc. 00-11519 Filed 5-8-00; 8:45 am]

BILLING CODE 4310-22-P